DEPARTMENT OF JUSTICE

Antitrust Division

Notice Pursuant to the National Cooperative Research and Production Act of 1993—ODPI, Inc.

Notice is hereby given that, on November 23, 2015, pursuant to Section 6(a) of the National Cooperative Research and Production Act of 1993, 15 U.S.C. 4301 et seq. (“the Act”), ODPi, Inc. (“ODPi”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Hortonworks, Inc., Santa Clara, CA; International Business Machines Corporation, Armonk, NY; Infosys Limited, Bengaluru, INDIA; Pivotal Software, Inc., Palo Alto, CA; Altiscale, Inc., Palo Alto, CA; EMC Corporation, Hopkinton, MA; General Electric Company, San Ramon, CA; WANdisco, Inc., San Ramon, CA; Ampool, Inc., Santa Clara, CA; DataTorrent, Santa Clara, CA; Squid Solutions, Inc., San Francisco, CA; TOSHIBA Corporation/Industrial ICT Solutions Company, Kawasaki, JAPAN; UNIFi Software, San Mateo, CA; XIILAB Co., Ltd., Seongnam Gyenggi, REPUBLIC OF KOREA; Z Data Inc., Newark, DE; Zettasset, Inc., Mountain View, CA; VMware Inc., Palo Alto, CA; SAS Institute Inc., Cary, NC; Telstra, Melbourne, Victoria, AUSTRALIA; Capgemini Service SAS, Paris, FRANCE; Beijing AsiaInfo Smart Big Data Co., Ltd., Beijing, PEOPLE'S REPUBLIC OF CHINA; NEC Corporation, Tokyo, JAPAN; Syncsort Incorporated, Woodcliff Lake, NJ; and Philippine Long Distance Telephone Company, Makati City, Metro Manila, PHILIPPINES.

The general area of ODPi's planned activities is: (a) To accelerate the development and delivery of big data solutions by providing well-defined open source and open data technologies that run across distributed devices (the “Platform”); (b) to promote the Platform worldwide; (c) to develop and implement certification programs to create high customer awareness of, demand for, and compliant implementations of the Platform; and (d) to undertake such other activities as may from time to time be appropriate to further the purposes and achieve the goals set forth above.

Patricia A. Brink,
Director of Civil Enforcement, Antitrust Division.

[FR Doc. 2015-32344 Filed 12-22-15; 8:45 am]

BILLING CODE P